DEPARTMENT OF THE INTERIOR

Geological Survey

[GX14EE000101800]

Proposal To Withdraw Spatial Data Transfer Standard, Parts 1-7

AGENCY: U.S. Geological Survey, Department of the Interior.

ACTION: Notice of request for comments on proposal to withdraw Spatial Data Transfer Standard, Parts 1-7.

SUMMARY: The Federal Geographic Data Committee (FGDC) proposes to withdraw the Spatial Data Transfer Standard (SDTS), Parts 1-7, http://www.fgdc.gov/standards/projects/FGDC-standards-projects/SDTS/index_html, as an FGDC-endorsed standard. FGDC maintenance authority agencies were asked to review the relevance of the SDTS, and they responded that the SDTS is no longer used by their agencies.

The SDTS had provided a common mechanism for transferring digital geospatial data among different systems and for sharing and integrating data from many diverse sources. For more information about the SDTS, refer to the SUPPLEMENTARY INFORMATION section.

The FGDC seeks comment from any organization that continues to provide data in the SDTS format and would prefer to retain the SDTS as an FGDC-endorsed standard. Alternatively, it seeks comment from any organization that supports withdrawal of the SDTS Parts 1-7 as an FGDC-endorsed standard. FGDC Standards Directive #9, Maintenance, http://www.fgdc.gov/standards/process/standards-directives/directive-09, requires a 90-day public comment period for proposals to withdraw FGDC-endorsed standards.

DATES: Comments on the FGDC proposal to withdraw the Spatial Data Transfer Standard, Parts 1-7, shall be submitted to Ms. Julie Binder Maitra, FGDC Standards Coordinator, jmaitra@fgdc.gov, by Friday, February 21, 2014.

FOR FURTHER INFORMATION CONTACT: Ms. Julie Binder Maitra, U.S. Geological Survey, Federal Geographic Data Committee, jmaitra@fgdc.gov, 703-648-4627.

SUPPLEMENTARY INFORMATION: Part 1, Logical Specifications, consists of three main sections that explain the SDTS conceptual model and SDTS spatial object types, components of a data quality report, and the layout of all SDTS modules. The U.S. Geological Survey (USGS) is the maintenance authority for Part 1.

Part 2, Spatial Features, contains a catalogue of spatial features and associated attributes. It addresses a need for definition of common spatial feature terms to ensure greater compatibility in data transfers. It is limited to small- and medium-scale spatial features commonly used on topographic quadrangle maps and hydrographic charts. The USGS is the maintenance authority for Part 2.

Part 3, ISO 8211 Encoding, explains the use of ISO/IEC 8211:1994, Information technology—Specification for a data descriptive file for information interchange, to create SDTS file sets (i.e., transfers). Geography Markup Language (GML), which the FGDC has endorsed, now satisfies the encoding requirements that SDTS once provided. The USGS is the maintenance authority for Part 3.

Part 4, Topological Vector Profile (TVP), is an SDTS profile that limits options and identifies specific requirements for SDTS transfers of data sets consisting of topologically structured area and linear spatial features. The USGS is the maintenance authority for Part 4.

For more information about Parts 1-4 and links to Parts 1-4, visit http://mcmcweb.er.usgs.gov/sdts/standard.html.

Part 5, Raster Profile and Extensions, is a profile for 2-dimensional image and gridded raster data. It permits alternate image file formats using the ISO Basic Image Interchange Format (BIIF) or Georeferenced Tagged Information File Format (GeoTIFF). The USGS is the maintenance authority for Part 5. For more information about and a link to SDTS Part 5, visit http://www.fgdc.gov/standards/projects/FGDC-standards-projects/SDTS/sdts_pt5/index_html.

Part 6, Point Profile, is designed to transfer and archive digital geospatial point data that can have very precise locations. High precision National Geodetic Survey (NGS) geodetic network control point data and Bureau of Land Management (BLM) survey point data can use this profile. The NGS is the maintenance authority for Part 6. The NGS no longer supports download of NGS datasheets in SDTS format. The NGS now offers users the ability to download geodetic control datasheets in plain ASCII text and Shapefiles instead. For more information about and a link to SDTS Part 6, visit http://www.fgdc.gov/standards/projects/FGDC-standards-projects/SDTS/sdts_point/index_html.

Part 7, Computer Aided Design and Drafting (CADD) Profile, contains specifications for an SDTS profile for use with vector-based geographic data as represented in CADD software. This profile facilitates the translation of data between CADD packages without loss of data and between CADD and mainstream GIS packages. CADD software allows for several types of elements, in particular, three-dimensional elements and complex curves that are not commonly used by GIS. The U.S. Army Corps of Engineers is the maintenance authority for Part 7. It is no longer using the standard. For more information about and a link to SDTS Part 7, visit http://www.fgdc.gov/standards/projects/FGDC-standards-projects/SDTS/sdts_cadd/index_html.

Following the 90-day public comment period, the FGDC Standards Coordinator will collate comments into a report. The report and a recommendation based on the report will be forwarded to the FGDC Coordination Group (CG) for approval. The report and CG recommendation will then be forwarded to the FGDC Steering Committee for final decision. Following the FGDC Steering Committee decision, the decision will be announced on the FGDC Web site, http://www.fgdc.gov, and the Federal Register.

The FGDC coordinates the development of the National Spatial Data Infrastructure (NSDI), which encompasses the policies, standards, and procedures for organizations to cooperatively produce and share geospatial data. Federal agencies that make up the FGDC develop the NSDI in cooperation with organizations from State, local and tribal governments, the academic community, and the private sector. The authority for the FGDC is OMB Circular No. A-16 Revised on Coordination of Geographic Information and Related Spatial Data Activities (Revised August 19, 2002). More information on the FGDC and the NSDI is available at http://www.fgdc.gov.

Ivan DeLoatch,
Executive Director, Federal Geographic Data Committee.

[FR Doc. 2013-28624 Filed 12-6-13; 8:45 am]

BILLING CODE 4311-AM-P